INTERNATIONAL TRADE COMMISSION

Inv. No. 337-TA-756

In the Matter of Certain Reduced Ignition Proclivity Cigarette Paper Wrappers and Products Containing Same; Notice of Commission Determination Not To Review an Initial Determination Granting Complainant's Motion To Amend the Complaint and Notice of the Investigation

AGENCY: U.S. International Trade Commission.

ACTION: Notice.

SUMMARY: Notice is hereby given that the U.S. International Trade Commission has determined not to review an initial determination (“ID”) (Order No. 5) of the presiding administrative law judge (“ALJ”) granting complainant's motion to amend the complaint and notice of the investigation to add seven respondents to the investigation.

FOR FURTHER INFORMATION CONTACT: Michael Haldenstein, Office of the General Counsel, U.S. International Trade Commission, 500 E Street, SW., Washington, DC 20436, telephone 202-205-3041. Copies of the ID and all other nonconfidential documents filed in connection with this investigation are or will be available for inspection during official business hours (8:45 a.m. to 5:15 p.m.) in the Office of the Secretary, U.S. International Trade Commission, 500 E Street, SW., Washington, DC 20436, telephone 202-205-2000. Hearing-impaired persons are advised that information on this matter can be obtained by contacting the Commission's TDD terminal on 202-205-1810. General information concerning the Commission may also be obtained by accessing its Internet server (http://www.usitc.gov). The public record for this investigation may be viewed on the Commission's electronic docket (EDIS) at http://edis.usitc.gov.

SUPPLEMENTARY INFORMATION: On January 13, 2011, the Commission instituted an investigation under section 337 of the Tariff Act of 1930, 19 U.S.C. 1337, based on a complaint filed by Schweitzer-Mauduit International, Inc., of Alpharetta, Georgia (“Schweitzer”), alleging a violation of section 337 in the importation, sale for importation, and sale within the United States after importation of certain reduced ignition proclivity cigarette paper wrappers and products containing same by reason of infringement of certain claims of U.S. Patent No. 6,725,867 and U.S. Patent No. 5,878,753. Complainant Schweitzer named as respondents Astra Tobacco Corporation of Chapel Hill, North Carolina; delfortgroup AG of Traun, Austria; LIPtec GmbH and Julius Glatz GmbH of Neidenfels, Germany.

On March 22, 2011, the ALJ issued an ID (Order No. 5) granting complainant Schweitzer's motion to amend the complaint and notice of the investigation to add seven additional respondents to the investigation. The new respondents are Dosal Tobacco Corp.; Farmer's Tobacco Co.; S&M Brands, Inc.; Tantus Tobacco, LLC; KneX Worldwide, LLC; Dr. Franz Feurstein GmbH; and PapierfabrikWattens GmbH & Co. KG. No party petitioned for review of the subject ID. The Commission has determined not to review the ID.

The authority for the Commission's determination is contained in section 337 of the Tariff Act of 1930, as amended (19 U.S.C. 1337), and in section 210.42(h) of the Commission's Rules of Practice and Procedure (19 CFR 210.42(h)).

By order of the Commission.
Issued: April 15, 2011.
James R. Holbein,
Acting Secretary to the Commission.

[FR Doc. 2011-9584 Filed 4-19-11; 8:45 am]

BILLING CODE 7020-02-P